DEPARTMENT OF DEFENSE

Office of the Secretary

Membership of the Defense Contract Audit Agency (DCAA) Performance Review Boards

AGENCY: Department of Defense, Defense Contract Audit Agency.

ACTION: Notice.

SUMMARY: This notice announces the appointment of the members of the Performance Review Boards (PRBs) of the Defense Contract Audit Agency (DCAA). The publication of PRB membership is required by 5 U.S.C. 4314(c)(4). The Performance Review Boards provide fair and impartial review of Senior Executive Service (SES) performance appraisals and make recommendations to the Director, DCAA, regarding final performance ratings and performance awards for DCAA SES members.

EFFECTIVE DATE: July 11, 2000.

FOR FURTHER INFORMATION CONTACT: Dale R. Collins, Chief, Human Resources Management, Defense Contract Audit Agency, Department of Defense, Ft. Belvoir, Virginia 22060-6219, 703-767-1236.

SUPPLEMENTARY INFORMATION: In accordance with 5 U.S.C. 4314(c)(4), the following are the names and titles of the executives who have been appointed to serve as members of the DCAA Performance Review Boards. They will serve one-year terms, effective upon publication of this notice.

Headquarters Performance Review Board

Mr. Earl Newman, Assistant Director, Operations, Defense Contract Audit Agency, Chairperson.

Mr. Larry Uhlfelder, Assistant Director, Policy and Plans, Defense Contract Audit Agency, member.

Mr. Kirk Moberley, General Counsel, Defense Contract Audit Agency, member.

Regional Performance Review Board

Mr. Barbara Reilly, Regional Director, Mid-Atlantic, Defense Contract Audit Agency, Chairperson.

Mr. Frank Summers, Regional Director, Central, Defense Contract Audit Agency, member.

Mr. Robert Melby, Deputy Regional Director, Eastern, Defense Contract Audit Agency, member.

Dated: June 30, 2000.
Patricia L. Toppings,
Alternate OSD Federal Register Liaison Officer, Department of Defense.

[FR Doc. 00-17412 Filed 7-10-00; 8:45 am]

BILLING CODE 5001-10-M